DEPARTMENT OF ENERGY

Federal Energy Regulatory Commission

[ Docket Nos. RP00-469-007 and RP01-22-009 and RP03-177-004]

East Tennessee Natural Gas Company; Notice of Compliance Filing

January 13, 2004.

Take notice that on December 15, 2003, East Tennessee Natural Gas Company (East Tennessee) tendered for filing pro forma tariff sheets to implement segmentation on its system, as required by Order No. 637 and the Order issued on May 23, 2003, in the captioned dockets.

East Tennessee states that copies of the filing have been mailed to all affected customers and interested State commissions, as well as to all parties on the official service lists compiled by the Secretary.

Any person desiring to protest said filing should file a protest with the Federal Energy Regulatory Commission, 888 First Street, NE., Washington, DC 0426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eFiling link.

Protest Date: January 20, 2004.

Magalie R. Salas,
Secretary.

[FR Doc. E4-84 Filed 1-20-04; 8:45 am]

BILLING CODE 6717-01-P